DEPARTMENT OF THE INTERIOR

National Park Service

Golden Gate National Recreation Area; Extension of Comment Period to Notice of Proposed Year-Round Closure at Fort Funston

A notice of proposed year-round closure at Fort Funston in the Golden Gate National Recreation Area was published in the Federal Register on July 18, 2000 (65 FR 44546), and amended on July 26, 2000 (65 FR 45988). The comment period closed on September 18, 2000. This document extends the comment period. Public comments on this notice must be received by October 6, 2000.

Dated: September 15, 2000.
Brian O'Neill,
Superintendent, Golden Gate National Recreation Area.

[FR Doc. 00-24071 Filed 9-18-00; 8:45 am]

BILLING CODE 4310-70-M